DEPARTMENT OF THE INTERIOR

Fish and Wildlife Service

[FWS-R6-R-2015-N206]; [FF06R06000-FXRS12610600000-167]

Rocky Mountain Arsenal National Wildlife Refuge, CO; Availability of Record of Decision for the Final Environmental Impact Statement

AGENCY: Fish and Wildlife Service, Interior.

ACTION: Notice of availability.

SUMMARY: We, the U.S. Fish and Wildlife Service (Service), announce the availability of a record of decision (ROD) for the final environmental impact statement (EIS) for the Rocky Mountain Arsenal National Wildlife Refuge (refuge, NWR) in Adams County, Colorado.

ADDRESSES: You may view or obtain copies of the ROD, the final EIS, or other project information by any of the following methods:

Agency Web site: Download a copy of the documents at http://www.fws.gov/mountain-prairie/refuges/co_rkm.php.

Email: rockymountainarsenal@fws.gov. Include “Request copy of the Rocky Mountain Arsenal NWR ROD” in the subject line of the message.

U.S. Mail: Rocky Mountain Arsenal NWR, 6550 Gateway Road, Commerce City, CO 80022.

Local Libraries: The final documents are available for review at the libraries listed under SUPPLEMENTARY INFORMATION.

FOR FURTHER INFORMATION CONTACT: David Lucas, Project Leader, at 303-289-0350 (phone), or Bernardo Garza, Planning Team Leader, 303-236-4377 (phone) or bernardo_garza@fws.gov (email).

SUPPLEMENTARY INFORMATION:

Introduction

With this notice, we announce the availability of the ROD for the final EIS for the refuge. We started this process through a notice in the Federal Register (78 FR 48183; August 7, 2013). Following a lengthy scoping and alternatives development period, we published a second notice in the Federal Register (80 FR 26084; May 6, 2015), announcing the availability of the draft comprehensive conservation plan (CCP) and draft EIS and our intention to hold public meetings, and requesting comments. We then published a third notice in the Federal Register (80 FR 52056, August 27, 2015), announcing the publication of the final EIS for the refuge.

The primary planning area for this decision includes the Rocky Mountain Arsenal NWR, which is located within the Denver Metropolitan Area, in Adams County, Colorado.

The Rocky Mountain Arsenal NWR encompasses nearly 16,000 acres and is home to more than 468 plant species and 350 wildlife species, including the endangered black-footed ferret, bald eagle, prairie dog, bison, deer, a wide variety of resident and migratory birds and raptors, amphibians, reptiles, fishes, and insects. The refuge's habitats include short and mixed grass prairie, interspersed with native shrubs, riparian corridors, lacustrine habitats on the refuge reservoirs, and woodlands planted by settlers around historic homesteads. The refuge is surrounded by the cities of Commerce City and Denver, and the Denver International Airport, along the Colorado Front Range.

Visitors take part in a variety of wildlife-dependent recreational activities on the refuge. The refuge is open for catch-and-release fishing, wildlife observation, photography, interpretation, and environmental education. As part of the CCP and EIS process, we have considered opening the refuge to limited special hunts.

Over 12,000 years of prehistory and history have been recorded in the site of the refuge, and the refuge contains significant cultural resources.

In accordance with National Environmental Policy Act (NEPA) (40 CFR 1506.6(b)) requirements, this notice announces the availability of the ROD for the final EIS for the Rocky Mountain Arsenal NWR. We completed a thorough analysis of the environmental, social, and economic considerations associated with our actions. The ROD documents our selection of alternative C, the preferred alternative.

Alternative C—Urban Refuge, as we described in the final EIS and ROD, is the foundation for the CCP which we will finalize by winter 2016.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. We will finalize the CCP for the refuge by winter 2016 and will update it at least every 15 years in accordance with the Administration Act.

CCP Alternatives and Selected Alternative

Our final EIS (80 FR 52056, August 27, 2015) addressed several issues. To address these, we developed and evaluated the following alternatives: Alternative A—No Action, Alternative B—Traditional Refuge, Alternative C—Urban Refuge, and Alternative D—Gateway Refuge.

Based on our environmental consequences analysis, we concluded that alternative B constituted the environmentally preferable alternative as it would have caused the least damage to the biological and physical environment.

However, after consideration of the 90 comments that we received on the draft CCP and draft EIS and a minor comment we received following the release of the final EIS, we selected alternative C—Urban Refuge as the preferred alternative. It is the alternative that best meets the purposes of the refuge; the mission of the National Wildlife Refuge System; the vision and management goals set for the refuge; adheres to Service policies and guidelines, and seeks to implement the Service's Urban Wildlife Conservation Program. It considers the interests and perspectives of many agencies, organizations, municipalities, and the public.

Under alternative C and in cooperation with our partners, we will continue to restore and maintain refuge habitats and manage wildlife populations in accordance with approved plans. We will increase the visibility of the refuge in the Denver Metropolitan Area and welcome many more nontraditional visitors to the refuge. Through an expanded visitor services program, an abundance of instructional programming, and widespread outreach, we will endeavor to connect more people with nature. We will work with nontraditional users' trusted avenues of communication to increase outreach success. We will expand our conservation education in surrounding communities and schools, develop youth-specific outreach, and employ social marketing to broaden our agency's reach. We will make the refuge more accessible to outlying communities by opening additional access points and enhancing the refuge transportation systems.

Public Availability of Documents

In addition to any one method in ADDRESSES, you can view or obtain documents at the following public libraries:

Library | Address | Phone No.
Aurora Central Public Library | 14949 E Alameda Parkway, Aurora, CO 80012 | (303) 739-6600
Commerce City Public Library | 7185 Monaco Street, Commerce City, CO 80022 | (303) 287-0063
Denver Central Library | 10 W Fourteenth Avenue, Denver, CO 80204 | (720) 865-1111
Montbello Public Library | 12955 Albrook Drive, Denver, CO 80239 | (720) 865-0200
Rangeview Library District | 327 E Bridge Street, Brighton, CO 80601 | (303) 405-3230

Next Steps

We will work with our cooperating agencies to finalize the CCP by winter 2016 and will begin its implementation immediately thereafter.

Dated: March 29, 2016.
Matt Hogan,
Deputy Regional Director, Mountain-Prairie Region, U.S. Fish and Wildlife Service.

[FR Doc. 2016-15292 Filed 6-27-16; 8:45 am]

BILLING CODE 4333-15-P